DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of the currently approved collections. The ICR describes the nature of the information collection and the expected burden. The Federal Register Notices with a 60-day comment period soliciting comments on the following collections of information were published on February 17, 2005, pages 8132-8133, with the exception of the notice for 2120-0574, which was published on August 25, 2004, page 52324.

DATES: Comments must be submitted on or before, June 6, 2005. A comment to OMB is most effective if OMB receives it within 30 days of publication.

FOR FURTHER INFORMATION CONTACT: Judy Street on (202) 267-9895.

SUPPLEMENTARY INFORMATION:

Federal Aviation Administration (FAA)

1. Title: Application for Certificate of Waiver or Authorization.

OMB Control Number: 2120-0027.

Type of Request: Extension of a currently approved collection.

Form(s): FAA Form 7711-2.

Affected Public: A total of 25,231 respondents.

Abstract: Part A of Subtitle VII of the Revised Title 49, United State Code, authorizes the issuance of regulations governing the use of navigable airspace. 14 CFR parts 91, 101, and 105 prescribe regulations governing the general operation and flight of aircraft, moored balloons, kites, unmanned rockets, unmanned free ballons, and parachute jumping. Applicants are individual airmen, state and local governments, and businesses.

Estimated Annual Burden Hours: An estimated 13,646 hours annually.

2. Title: Aircraft Registration.

OMB Control Number: 2120-0042.

Type of Request: Extension of a currently approved collection.

Form(s): AC Forms 8050-1, 2, 4, 98, 117.

Affected Public: A total of 41,978 aircraft owners and operators.

Abstract: The information collected is used by the FAA to register aircraft or hold an aircraft in trust. The information required to register and prove ownership of an aircraft is required by any person wishing to register an aircraft.

Estimated Burden Hours: A total of 73,572 hours annually.

3. Title: Development of Major Repair Data.

OMB Control Number: 2120-0507.

Type of Request: Extension of a currently approved collection.

Form(s): FAA Form 8100-8.

Affected Public: A total of 19 Aircraft maintenance, commercial aviation, aircraft repair stations, air carriers, commercial operators.

Abstract: SFAR 36 (to part 121) relieves qualifying applicants (Aircraft maintenance, commercial aviation, aircraft repair stations, air carriers, commercial operators) of the burden to obtain FAA approval of data developed by them for the major repairs on a case-by-case basis; and provides for one-time approvals.

Estimated Burden Hours: A total of 306 hours annually.

4. Title: Aviation Safety Counselor of the Year Award.

OMB Control Number: 2120-0574.

Type of Request: Extension of a currently approved collection.

Form(s): FAA Form 8740-14.

Affected Public: A total of 180 respondents.

Abstract: The form is used to nominate private citizens for recognition of their volunteer service to the FAA. The agency will use the information on the form to select time regional winners and one national winner. The respondents are private citizens involved in aviation.

Estimated Burden Hours: A total of 180 hours annually.

5. Title: Reduced Vertical Separation Minimum (RVSM).

Type of Request: Extension of a currently approved collection.

OMB Control Number: 2120-0679.

Form(s): NA.

Affected Public: An estimated total of 2,275 aircraft operators.

Abstract: Aircraft operators seeking operational approval to conduct RVSM operations within the 48 contiguous United States (U.S.), Alaska and that portion of the Gulf of Mexico where the FAA provides air traffic services, must submit their application of the Certificate Holding District Office (CHDO). The CHDO registers RVSM approved airframes in the FAA RVSM Approvals Database. When operators complete airworthiness, continued airworthiness and operations program requirements, the CHDO grants operations approval.

Estimated Annual Burden Hours: An estimated 68,250 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques of other forms of information technology.

Issued in Washington, DC on April 28, 2005.
Judith D. Street,
FAA Information Collection Clearance Officer, Information Systems and Technology Services Staff, ABA-20.

[FR Doc. 05-8939 Filed 5-4-05; 8:45 am]

BILLING CODE 4910-13-M